DEPARTMENT OF COMMERCE

International Trade Administration

A-122-840

Preliminary Results of Changed Circumstances Antidumping Duty Administrative Review: Carbon and Certain Alloy Steel Wire Rod from Canada

AGENCY: Import Administration, International Trade Administration, Department of Commerce.

On March 9, 2005, the Department of Commerce published a notice of initiation of a changed circumstances review of the antidumping duty order on carbon and certain alloy steel wire rod products from Canada. We have preliminarily concluded that Mittal Canada Inc. (Mittal) is the successor-in-interest to Ispat Sidebec Inc. (Ispat) and, as a result, should be accorded the same treatment previously accorded to Ispat in regard to the antidumping order on steel wire rod from Canada.

May 3, 2005.

FOR FURTHER INFORMATION CONTACT: Daniel O'Brien or Ashleigh Batton, at (202) 482-1376 or (202) 482-6309, respectively; AD/CVD Operations, Office 1, Import Administration, International Trade Administration, U.S. Department of Commerce, 14th Street & Constitution Avenue, NW, Washington, DC 20230.

SUPPLEMENTARY INFORMATION: Background:

On January 14, 2005, Mittal, requested that the Department determine that it had become the successor-in-interest of Ispat, pursuant to section 751(b) of the Tariff Act of 1930, as amended (the Act), and 19 CFR 351.216 and 351.221(c)(3). On March 9, 2005, the Department this investigation. See Notice of Initiation of Changed Circumstances Antidumping Duty Administrative Review: Carbon and Certain Alloy Steel Wire Rod from Canada, 70 FR 11612 (Initiation Notice). On March 25, 2005, the Department issued Ispat/Mittal a questionnaire requesting further details on Mittal's successor-in-interest claims. The company's response was received by the Department on April 1, 2005.

Scope of the Order

For purposes of the order, the products covered are Carbon and Certain Alloy Steel Wire Rod from Canada. For a complete description of the scope of the order, see Initiation Notice.

Preliminary Results of the Review

In making a successor-in-interest determination, the Department examines several factors including, but not limited to, changes in: (1) management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460, 20462 (May 13, 1992). While no single factor or combination of these factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the evidence demonstrates that, with respect to the production and sale of the subject merchandise, the new company operates as the same business entity as the former company, the Department will accord the new company the same antidumping treatment as its predecessor.

In its submission to the Department, dated April 1, 2005, Mittal provided documentation supporting its contention that Mittal was functionally the same company as the former Ispat. According to Mittal, Ispat changed its name to Mittal Canada Inc. to align worldwide corporate names of the Mittal Steel Company. Evidence on the record indicates that Ispat's ultimate parent company, Ispat International N.V., purchased LNM Holdings, a holding company with interests in steel producers in Europe, Africa, and Asia. None of the LNM Holdings companies produced any steel in Canada.

We preliminarily find that no operational changes to Isapt/Mittal have occurred, or are planned, in terms the organizational structure, production facilities, management, customer base, or suppliers as a result of Ispat International N.V./Mittal Steel Company's acquiring LNM Holdings. Therefore, we preliminarily determine that Mittal is the successor-in-interest to Ispat.

If the above preliminary results are affirmed in the Department's final results, the cash deposit rate most recently calculated for Ispat will apply to all entries of subject merchandise by Mittal entered, or withdrawn from warehouse, for consumption on or after the date of publication of the final results of this changed circumstances review. See Granular Polytetraflouroethylene Resin from Italy; Final Results of Antidumping Duty Changed Circumstances Review, 68 FR 25327 (May 12, 2003). This deposit rate shall remain in effect until publication of the final results of the next administrative review in which Mittal participates.

Public Comment

Any interested party may request a hearing within 30 days of publication of this notice in accordance with 19 CFR 351.310(c). Any hearing, if requested, will be held 44 days after the date of publication of this notice, or the first working day thereafter. Pursuant to 19 CFR 351.309(c)(ii), interested parties may submit case briefs not later than 30 days after the date of publication of this notice. Rebuttal briefs, which must be limited to issues raised in such briefs, must be filed not later than 37 days after the date of publication of this notice. See 19 CFR 351.309(d). Parties who submit arguments are requested to submit with the argument (1) a statement of the issue, (2) a brief summary of the argument, and (3) a table of authorities.

The Department will issue its final results of review within 270 days after the date on which the changed circumstances review is initiated, in accordance with 19 CFR 351.216(e) (2004), and will publish these results in the Federal Register.

The current requirement for a cash deposit of estimated antidumping duties on all subject merchandise will continue unless and until it is modified pursuant to the final results of this changed circumstances review.

This notice is in accordance with sections 751(b)(1) of the Act and 19 CFR 351.216 of the Department's regulations.

Dated: April 26, 2005.
Barbara E. Tillman,
Acting Assistant Secretary for Import Administration.

[FR Doc. E5-2145 Filed 5-2-05; 8:45 am]

BILLING CODE 3510-DS-S